OFFICE OF MANAGEMENT AND BUDGET

Guidelines for Ensuring and Maximizing the Quality, Objectivity, Utility, and Integrity of Information Disseminated by Federal Agencies

AGENCY: Office of Management and Budget, Executive Office of the President.

ACTION: Notice.

SUMMARY: On January 3, 2002, OMB published Guidelines for Ensuring and Maximizing the Quality, Objectivity, Utility, and Integrity of Information Disseminated by Federal Agencies. Paragraph IV.3 of these Guidelines calls upon each agency to “prepare a draft report, no later than April 1, 2002, providing the agency's information quality guidelines and explaining how such guidelines will ensure and maximize the quality, objectivity, utility, and integrity of information, including statistical information disseminated by the agency.” Paragraph IV.4 calls upon each agency to “publish a notice of availability of this draft report in the Federal Register, and post this report on the agency's website, to provide an opportunity for public comment.” This notice announces an extension of that April 1, 2002, deadline to May 1, 2002. Agencies should now “prepare a draft report, no later than May 1, 2002,” providing the material called for in these Guidelines.

DATES: Effective Date: March 4, 2002.

FOR FURTHER INFORMATION CONTACT: Brooke J. Dickson, Office of Information and Regulatory Affairs, Office of Management and Budget, Washington, DC 20503. Telephone (202) 395-3785 or by e-mail to informationquality@omb.eop.gov.

SUPPLEMENTARY INFORMATION: The Office of Management and Budget (OMB) published proposed guidelines in the Federal Register on June 28, 2001 (66 FR 34489). OMB published final guidelines in the Federal Register on September 28, 2001 (66 FR 49718), and republished the final guidelines, with amendments, on January 3, 2002 (67 FR 369) and corrections thereto on February 5, 2002 (67 FR 5365).

This extension of the April 1, 2002, deadline to May 1, 2002, provides agencies additional time to develop and prepare their draft guidelines. While some agencies may be ready to release their draft guidelines for public review and comment prior to May 1, 2002, others have requested additional time.

Dated: February 25, 2002.
John D. Graham,
Administrator, Office of Information and Regulatory Affairs.

[FR Doc. 02-4999 Filed 3-1-02; 8:45 am]

BILLING CODE 3110-01-P